DEPARTMENT OF HEALTH AND HUMAN SERVICES

National Institutes of Health

Center for Scientific Review; Amended Notice of Meeting

Notice is hereby given of a change in the meeting of the Neural Basis of Psychopathology, Addictions and Sleep Disorders Study Section, February 26, 2004, 8:30 a.m. to February 27, 2004, 5 p.m. Governor's House Hotel, 1615 Rhode Island Avenue, NW., Washington, DC 20036 which was published in the Federal Register on January 30, 2004, 69 FR 4526-4528.

The meeting will be held at the St. Gregory Hotel, 2033 M Street, NW., Washington, DC 20036. The dates and time remain the same. The meeting is closed to the public.

Dated: February 13, 2004.
LaVerne Y. Stringfield,
Director, Office of Federal Advisory Committee Policy.

[FR Doc. 04-3839 Filed 2-20-04; 8:45 am]

BILLING CODE 4140-01-M